DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension, with only changes to the number of respondents, of Form NWPA-830G, “Standard Contract for Disposal of Spent Nuclear Fuel and/or High-Level Radioactive Waste,” Appendix G, under OMB Control Number 1901-0260. Form NWPA-830G, “Appendix G-Standard Remittance Advice for Payment of Fees (including Annex A to Appendix G), which is part of the Standard Contract collects information concerning a company's quarterly payments into the Nuclear Waste Fund of ongoing fees for spent nuclear fuel disposal. Form NWPA-830G, is a mandatory form that serves as the source document for entries into DOE accounting records to transmit data from purchasers to DOE concerning payment of the Spent Nuclear Fuel Disposal Fee into the Nuclear Waste Fund. Although the Department of Energy determined that, effective May 16, 2014, the Spent Nuclear Fuel Disposal Fee is 0.0 mills per kWh, the U.S. Department of Energy's Office of the General Counsel, given the continuing nature of the Department's statutory responsibilities regarding spent nuclear fuel, directed EIA to continue activities associated with the collection of net electricity generation data.

DATES: Comments on this information collection must be received no later than October 21, 2021. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Bonnie West, U.S. Energy Information Administration, telephone (202) 586-2415, and/or by email at Bonnie.West@eia.gov. The forms and instructions are available on EIA's website at http://www.eia.gov/survey/#nwpa-830g.

Form NWPA-830G, “Appendix G-Standard Remittance Advice for Payment of Fees,” may be accessed from this URL: https://www.eia.gov/survey/form/nwpa_830g/proposed/2021/appendix_g.pdf, and

Annex A to Appendix G from the URL below: https://www.eia.gov/survey/form/nwpa_830g/proposed/2021/annex_a_appendix_g.pdf.

SUPPLEMENTARY INFORMATION:

This information collection request contains:

(1) OMB No.: 1901-0260;

(2) Information Collection Request Title: Form NWPA-830G, Standard Contract for Disposal of Spent Nuclear Fuel and/or High-Level Radioactive Waste, Appendix G;

(3) Type of Request: Three-year extension with changes;

(4) Purpose: The Form NWPA-830G survey included in the Standard Contract for Disposal of Spent Nuclear Fuel and/or High-Level Radioactive Waste, Appendix G, collect information on and is the source document for entries into DOE accounting records to transmit data from purchasers to DOE concerning payment of the Spent Nuclear Fuel Disposal Fee into the Nuclear Waste Fund. Appendix G collects payment data based on a utility's net electricity generated and sold. 15 U.S.C. 772(b) provides that EIA may require all persons owning or operating facilities or business premises who are engaged in any phase of energy supply or major energy consumption to make available to the Administrator such information and periodic reports, records, documents, and other data, relating to the purposes of this Act, including full identification of all data and projections as to source, time and methodology of development.

The Nuclear Waste Policy Act of 1982 (42 U.S.C. 10101 et seq.) required that DOE enter into Standard Contracts with all generators or owners of spent nuclear fuel and high-level radioactive waste of domestic origin. Form NWPA-830G Appendix G-Standard Remittance Advice for Payment of Fees, including Annex A to Appendix G, is an Appendix to this Standard Contract. Appendix G and Annex A to Appendix G are commonly referred to as Remittance Advice (RA) forms. RA forms must be submitted quarterly by generators and owners of spent nuclear fuel and high-level radioactive waste of domestic origin who signed the Standard Contract. Appendix G is designed to serve as the source document for entries into DOE accounting records to transmit data to DOE concerning payment of fees into the Nuclear Waste Fund for spent nuclear fuel and high-level waste disposal. Annex A to Appendix G is used to provide data on the amount of net electricity generated and sold, upon which these fees are based.

(4a) Changes to Information Collection: The reduction of 80 annual burden hours for Form NWPA-830G results from the reduction of the number of total respondents representing reactors that decreased from 99 to 95. Six reactors permanently shut down since the last clearance cycle and no longer are required to pay fees into the Nuclear Waste Fund nor respond to this survey. Additional respondents representing two new reactors in Georgia, VOGTLE 3 and VOGTLE 4, which are planned to be operational by end of 2021 and by end of 2022 respectively;

(5) Annual Estimated Number of Respondents: 95;

(6) Annual Estimated Number of Total Responses: 380;

(7) Annual Estimated Number of Burden Hours: 1,900;

(8) Annual Estimated Reporting and Recordkeeping Cost Burden: The cost of burden hours to the respondents is estimated to be $155,135 (1,900 burden hours times $81.65 per hour.) EIA estimates that there are no additional costs to respondents associated with the survey other than the costs associated with the burden hours.

Statutory Authority: 42 U.S.C. 10222 and 15 U.S.C. 772(b).

Signed in Washington, DC, on September 16, 2021.
Samson A. Adeshiyan,
Director, Office of Statistical Methods and Research, U.S. Energy Information Administration.

[FR Doc. 2021-20392 Filed 9-20-21; 8:45 am]

BILLING CODE 6450-01-P